Executive Order 13969 of December 28, 2020

Expanding Educational Opportunity Through School Choice

By the authority vested in me as President by the Constitution and the laws of the United States of America, and in order to ensure the education, health, safety, and well-being of America's children, our most essential resource upon which the future of our great Nation depends, it is hereby ordered as follows:

Section 1. Purpose. As part of their efforts to address the public health challenges and uncertainties posed by the COVID-19 pandemic, State and local officials shut down in-person learning for the vast majority of our more than 56 million elementary and secondary school students beginning in late February and early March of this year. Since then, however, our Nation has identified effective measures to facilitate the safe resumption of in-person learning, and the Federal Government has provided more than $13 billion to States and school districts to implement those measures.

The prolonged deprivation of in-person learning opportunities has produced undeniably dire consequences for the children of this country. The Centers for Disease Control and Prevention has stated that school attendance is negatively correlated with a child's risk of depression and various types of abuse. States have seen substantial declines in reports of child maltreatment while school buildings have been closed, indicating that allegations are going unreported. These reductions are driven in part by social isolation from the schoolteachers and support staff with whom students typically interact and who have an obligation to report suspected child maltreatment. The American Academy of Pediatrics (AAP) has also found that school closures have a “substantial impact on food security and physical activity for children and families.” Additionally, a recent survey of educators found student absences from school, including virtual learning, have nearly doubled during the pandemic, and as AAP has noted, chronic absenteeism is associated with alcohol and drug use, teenage pregnancy, juvenile delinquency, and suicide attempts.

School closures are especially difficult for families with children with special needs. Schools provide not only academic supports for students with special needs, but they also provide much-needed in-person therapies and services, including physical and occupational therapies. A recent survey found that 80 percent of children with special needs are not receiving the services and supports to which they are entitled and that approximately 40 percent of children with special needs are receiving no services or supports. Moreover, the survey found that virtual learning may not be fully accessible to these students, as children with special needs are twice as likely to receive little or no remote learning and to be dissatisfied with the remote learning received.

Low-income and minority children are also disproportionately affected by school closures. In low-income zip codes, students' math progress decreased by nearly 50 percent while school buildings were closed in the spring, and the math progress of students in middle-income zip codes fell by almost a third during the same period. A recent analysis projected that, if in-person classes do not fully resume until January 2021, Hispanic, Black, and low-income students will lose 9.2, 10.3, and 12.4 months of learning, respectively.

A failure to quickly resume in-person learning options is likely to have long-term economic effects on children and their families. According to a recent study, if in-person classes do not fully resume until January 2021, the average student could lose $61,000 to $82,000 in lifetime earnings, or the equivalent of a year of full-time work. Additionally, in 2019, more than 90 percent of children under the age of 18 had at least one employed parent. Many employed parents do not have the option of engaging in remote work that allows them the flexibility to supervise their children during the day when in-person learning options are not available. Without the resumption of in-person learning opportunities, the economic and social harms resulting from such lost employment opportunities will continue to compound.

To help mitigate these harms, the Department of Health and Human Services recently announced additional relief for low-income parents by allowing States to use funds available through the Child Care and Development Fund to subsidize child care services and services that supplement academic instruction for children under the age of 13 who are participating in virtual instruction. Nevertheless, virtual instruction is an inadequate substitute for in-person learning opportunities and this aid is insufficient to meet current needs.

While some families, especially those with financial means, have been able to mitigate school disruptions through in-person options such as homeschooling, private schools, charter schools, and innovative models like microschools and “learning pods,” for many families, their children's residentially assigned public school remains their only financially available option. Unfortunately, more than 50 percent of all public-school students in the United States began school remotely this fall. These children, including those with special needs, are being underserved due to the public education system's failure to provide in-person learning options.

Students whose families pay tuition for their education are also facing significant hardships due to the economic disruptions caused by the pandemic. Scores of private schools, including approximately 100 Catholic schools, have permanently closed since the onset of COVID-19, and more than half of our Nation's private schools are believed to have lost enrollment due to the pandemic. These closures and declining enrollments are harmful to students, bad for communities, and likely to impose increased strain on public school systems.

I am committed to ensuring that all children of our great Nation have access to the educational resources they need to obtain a high-quality education and to improving students' safety and well-being, including by empowering families with emergency learning scholarships.

Sec. 2. Providing Emergency Learning Scholarships for Students. The Secretary of Health and Human Services shall take steps, consistent with law, to allow funds available through the Community Services Block Grant program to be used by grantees and eligible entities to provide emergency learning scholarships to disadvantaged families for use by any child without access to in-person learning. These scholarships may be used for:

(i) tuition and fees for a private or parochial school;

(ii) homeschool, microschool, or learning-pod costs;

(iii) special education and related services, including therapies; or

(iv) tutoring or remedial education.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 28, 2020.

[FR Doc. 2020-29235

Filed 12-31-20; 11:15 am]

Billing code 3295-F1-P